DEPARTMENT OF ENERGY

Federal Energy Regulatory Commission

[Project No. 2715-026]

Kaukauna Utilities; Notice of Application Ready for Environmental Analysis and Soliciting Comments, Recommendations, Terms and Conditions, and Prescriptions

Take notice that the following hydroelectric application has been filed with the Commission and is available for public inspection.

a. Type of Application: New Major License.

b. Project No.: 2715-026.

c. Date Filed: July 22, 2022.

d. Applicant: Kaukauna Utilities (Kaukauna).

e. Name of Project: Combined Locks Hydroelectric Project (Combined Locks Project or project).

f. Location: The existing project is located on the Lower Fox River in the Village of Combined Locks and the Village of Little Chute, Outagamie County, Wisconsin.

g. Filed Pursuant to: Federal Power Act, 16 U.S.C. 791 (a)-825(r).

h. Applicant Contact: Zachary Moureau, Environmental & Compliance Manager, Kaukauna Utilities, 777 Island Street, Kaukauna, WI 54130-7077; (920) 462-0238; zmoureau@ku-wi.org.

i. FERC Contact: Kelly Wolcott at (202) 502-6480, or email at kelly.wolcott@ferc.gov.

j. Deadline for filing comments, recommendations, terms and conditions, and prescriptions: 60 days from the issuance date of this notice; reply comments are due 105 days from the issuance date of this notice.

The Commission strongly encourages electronic filing. Please file comments, recommendations, terms and conditions, and prescriptions using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Debbie-Anne Reese, Acting Secretary, Federal Energy Regulatory Commission, 888 First Street NE, Room 1A, Washington, DC 20426. Submissions sent via any other carrier must be addressed to: Debbie-Anne Reese, Acting Secretary, Federal Energy Regulatory Commission, 12225 Wilkins Avenue, Rockville, Maryland 20852. All filings must clearly identify the project name and docket number on the first page: Combined Locks Hydroelectric Project (P-2715-026).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. Project Description: The Combined Locks Project includes a 719.7-foot-long concrete and cyclopean stone dam that includes: (1) a 2.6-foot-long north abutment; (2) a 183-foot-long, 27-foot-high non-overflow section; (3) a 182-foot-long, 30.4-foot-high section with seven bays that each contain a 20-foot-wide, 15.5-foot-high Tainter gate; (4) a 286.1-foot-long, 23.2-foot-high spillway section with: (a) 1.9-foot-high flashboards; (b) a crest elevation of 676.50 feet International Great Lakes Datum of 1985 (IGLD 85) at the top of the flashboards; (c) an 11.7-foot-wide, 2.7-foot-high ice sluice gate; and (d) a 7.3-foot-wide, 2.7-foot-high debris sluice gate; (5) a 65-foot-long, 36.1-foot-high intake structure with two 20-foot-wide, 19.7-foot-high sluice gates each equipped with a 30.3-foot-wide, 31.8-foot-high trashrack with 3.5-inch clear bar spacing; and (6) a 1-foot-long south abutment. The dam creates an impoundment that has a surface area of approximately 127 acres at an elevation of 677.79 feet IGLD 85.

From the impoundment, water flows through the intake structure to a 130-foot-long, 65-foot-wide concrete powerhouse that contains two 3.1-megawatt (MW) Kaplan turbine-generator units, for a total installed capacity of 6.2 MW. Water is discharged from the turbines to an approximately 250-foot-long, 160-foot-wide tailrace.

The project generators are connected to the regional electric grid by: (1) a 265-foot-long, 4.16-kilovolt (kV) above-ground generator lead line; (2) a 4.16/12.47-kV step-up transformer approximately 200 feet west of the powerhouse; and (3) a 1,442-foot-long, 12.47-kV transmission line that connects to a non-project substation, and that includes a 1,059-foot-long above-ground segment and a 383-foot-long underground segment. The project includes a 10-foot-long, 7.2-foot-wide electrical control building located at the south side of the 182-foot-long section of the dam.

The minimum and maximum hydraulic capacities of the powerhouse are 715 and 5,400 cubic feet per second, respectively. The average annual energy production of the Combined Locks Project from 2014 through 2020 was 42,744 megawatt-hours.

The current license requires Kaukauna to minimize impoundment fluctuations by operating the project in a run-of-river mode, such that project outflow approximates the “instantaneous sum of all inflow.” Kaukauna maintains the surface elevation of the impoundment between 675.74 and 677.79 feet IGLD 85.

Kaukauna proposes to continue operating the project in a run-of-river mode and maintaining the surface elevation of the impoundment between 675.74 and 677.79 feet IGLD 85. Kaukauna also proposes to: (1) continue to dispose of large woody debris and trash collected from the trashracks; (2) implement invasive species monitoring every 2 years, and manage species categorized as “prohibited” by the Wisconsin Department of Natural Resources if observed in the project boundary; and (3) evaluate the project dam for National Register of Historic Places eligibility.

m. A copy of the application can be viewed on the Commission's website at http://www.ferc.gov using the “eLibrary” link. Enter the docket number excluding the last three digits in the docket number field to access the document. For assistance, contact FERC Online Support.

All filings must (1) bear in all capital letters the title “COMMENTS,” “REPLY COMMENTS,” “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b) and 385.2010.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

You may also register online at https://ferconline.ferc.gov/FERCOnline.aspx to be notified via email of new filings and issuances related to this or other pending projects. For assistance, contact FERC Online Support.

n. The applicant must file no later than 60 days following the date of issuance of this notice: (1) a copy of the water quality certification; (2) a copy of the request for certification, including proof of the date on which the certifying agency received the request; or (3) evidence of waiver of water quality certification.

o. Procedural Schedule: The application will be processed according to the following schedule. Revisions to the schedule will be made as appropriate.

Milestone | Target date
Filing of Comments, Recommendations, Terms and Conditions, and Prescriptions | March 2024.
Filing of Reply Comments | April 2024.

Dated: January 16, 2024.
Debbie-Anne A. Reese,
Acting Secretary.

[FR Doc. 2024-01139 Filed 1-22-24; 8:45 am]

BILLING CODE 6717-01-P